DEPARTMENT OF EDUCATION

Applications for New Awards; Promise Neighborhoods Program—Planning Grant Competition, Correction

AGENCY: Office of Innovation and Improvement, Department of Education.

ACTION: Notice; correction.

Catalog of Federal Domestic Assistance (CFDA) Number: 84.215P (Planning grants).

SUMMARY: On April 20, 2012, the Office of Innovation and Improvement in the U.S. Department of Education published in the Federal Register (77 FR 23690) a notice inviting applications for new awards for fiscal year (FY) 2012 for the Promise Neighborhoods planning grant competition (2012 Planning Grant NIA). This notice corrects an error in the deadline for transmittal of applications.

DATES: Deadline for Transmittal of Applications: July 27, 2012.

SUPPLEMENTARY INFORMATION:

Correction

In section IV, Application and Submission Information, the 2012 Planning Grant NIA indicates that the deadline for transmittal of applications is June 19, 2012, which is incorrect. We correct this NIA as follows:

On page 23700, third column, we correct the Deadline for Transmittal of Applications date to read “July 27, 2012.”

Program Authority: 20 U.S.C. 7243-7243b.

VIII. Agency Contact

FOR FURTHER INFORMATION CONTACT: Adrienne Hawkins, U.S. Department of Education, 400 Maryland Avenue SW., room 4W256, Washington, DC 20202. Telephone: (202) 453-5638 or by email: PromiseNeighborhoods@ed.gov.

If you use a telecommunications device for the deaf (TDD) or a text telephone (TTY), call the Federal Relay Service (FRS), toll free, at 1-800-877-8339.

Accessible Format: Individuals with disabilities can obtain this document and a copy of the application package in an accessible format (e.g., braille, large print, audiotape, or compact disc) on request to the program contact person listed under FOR FURTHER INFORMATION CONTACT in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 4, 2012.
James H. Shelton, III,
Assistant Deputy Secretary for Innovation and Improvement.

[FR Doc. 2012-11255 Filed 5-10-12; 8:45 am]

BILLING CODE 4000-01-P